DEPARTMENT OF ENERGY

Office of Fossil Energy

[FE Docket Nos. 91-51-NG, 00-65-NG, 00-68-NG, 00-64-NG, 00-73-NG, 00-63-NG, 00-66-NG, 99-89-NG, 99-96-LNG, 00-69-LNG, 99-22-NG, 99-12-NG, 00-72-NG, 00-78-NG, 00-75-NG, 00-71-NG, 00-81-NG]

Fina Natural Gas Company, et al.; Orders Granting and Amending Authority To Import and Export Natural Gas

AGENCY: Office of Fossil Energy, DOE.

ACTION: Notice of orders.

SUMMARY: The Office of Fossil Energy (FE) of the Department of Energy gives notice that during October 2000, it issued Orders granting and amending authority to import and export natural gas. These Orders are summarized in the attached appendix and may be found on the FE website at http://www.fe.doe.gov, or on the electronic bulletin board at (202) 586-7853. They are also available for inspection and copying in the Office of Natural Gas & Petroleum Import & Export Activities, Docket Room 3E-033, Forrestal Building, 1000 Independence Avenue, S.W., Washington, D.C. 20585, (202) 586-9478. The docket room is open between the hours of 8:00 a.m. and 4:30 p.m., Monday through Friday, except Federal holidays.

Issued in Washington, D.C., on November 7, 2000.
John W. Glynn,
Manager, Natural Gas Regulation, Office of Natural Gas & Petroleum, Import & Export Activities, Office of Fossil Energy.

Appendix_Orders Granting and Transferring Import/Export Authorizations

Order No. | Date issued | Importer/Exporter FE Docket No. | Import volume | Export volume | Comments
563-A | 10/02/00 | Fina Natural Gas Company, 91-51-NG |  |  | Amendment to blanket import and export authority to include the import of LNG from any international source.
1627 | 10/02/00 | Pioneer Natural Resources Canada Inc., 00-65-NG | 76.8 Bcf |  | Import from Canada, beginning on October 30, 2000, and extending through October 29, 2002.
1628 | 10/05/00 | Coastal Oil & Gas Corporation, 00-68-NG | 300 Bcf |  | Import and export combined total, including LNG, from and to Canada, beginning on November 1, 2000, and extending through October 31, 2002.
1629 | 10/05/00 | Montana-Dakota Utilities Co., a Division of MDU Resources Group, Inc., 00-64-NG | 10 Bcf |  | Import from Canada, beginning on December 1, 2000, and extending through November 30, 2002.
1630 | 10/16/00 | Numac Energy (U.S.) Inc., 00-73-NG | 50 Bcf |  | Import from Canada, beginning on October 15, 2000, and extending through October 14, 2002.
1631 | 10/18/00 | WPS Energy Services, Inc., 00-63-NG | 25 Bcf | 5 Bcf | Import and export from and to Canada beginning on November 1, 2000, and extending through October 31, 2002.
1632 | 10/18/00 | Rochester Gas and Electric Corporation, 00-66-NG | 30 Bcf |  | Import from Canada beginning on December 1, 2000, and extending through November 30, 2002.
1540-A | 10/19/00 | BP Energy Company (Formerly Amoco Energy Trading Corp.), 99-89-NG |  |  | Name change.
1542-A | 10/19/00 | BP Energy Company (Formerly Amoco Energy Trading Corp.), 99-96-LNG |  |  | Name change.
1633 | 10/19/00 | Duke Energy Trading and Marketing, L.L.C., 00-69-LNG | 200 Bcf |  | Import and export an aggregate from and to Canada and Mexico, including LNG, and import LNG from other countries beginning on October 31, 2000, and extending through October 30, 2002.
1474-B | 10/24/00 | Cascade Natural Gas Corporation, 99-22-NG |  |  | Amendment extending long-term authority for one year.
1464-A | 10/24/00 | Powerex Corp., 99-12-NG |  |  | Name change.
1634 | 10/24/00 | The Montana Power Company, 00-72-NG |  | 4 Bcf | Export to Canada beginning on November 1, 2000, and extending through October 31, 2002.
1635 | 10/25/00 | Prairielands Energy Marketing, Inc., 00-78-NG | 25 Bcf | 25 Bcf | Import and export from and to Canada beginning on June 1, 2000, and extending through May 31, 2002.
1636 | 10/26/00 | Equitable Energy, L.L.C., 00-75-NG | 100 Bcf | 100 Bcf | Import combined total from Canada and Mexico, and export combined total to Canada and Mexico, beginning on December 1, 2000, and extending through November 30, 2002.
1637 | 10/27/00 | The Consumers' Gas Company Ltd., 00-71-NG | 100 Bcf |  | Import from Canada beginning on the date of first delivery after October 27, 2000.
1638 | 10/30/00 | TransCanada Gas Services Inc., 00-81-NG | 700 Bcf | 300 Bcf | Import from Canada, and export combined total to Canada and Mexico, beginning on November 1, 2000, and extending through October 31, 2002.

[FR Doc. 00-29069 Filed 11-13-00; 8:45 am]

BILLING CODE 6450-01-P